Proclamation 10600 of July 14, 2023

National Atomic Veterans Day, 2023

By the President of the United States of America

A Proclamation

The dawn of the nuclear age is familiar to many—the development of new science, but also new risks and destruction, as witnessed by the devastation at Hiroshima and Nagasaki. But the lesser-known story is that of the members of our Armed Forces who participated in nuclear tests from 1945 to 1962 or were exposed to radioactive material at home and abroad—our courageous Atomic Veterans.

Today, we remember their service and sacrifice and recommit to ensuring they receive the benefits and care they deserve. Atomic Veterans bore unusual risk but were sworn to secrecy throughout their service and beyond, unable to discuss the nature of their experiences and contributions. As a result, many were unable to get care for the serious health conditions they developed. Cancers caused by radiation exposure often went untreated as claims for injuries and diseases associated with Atomic Veterans' service were denied. And although the 1996 repeal of the Nuclear Radiation and Secrecy Agreements Act allowed Atomic Veterans to finally tell their story and receive benefits, thousands had already passed away without their families knowing the full extent of their service. To this day, many remain unaware of the benefits now available to them through the Department of Veterans Affairs.

Our Nation has many obligations, but we have only one truly sacred obligation: to prepare those we send into harm's way and care for them and their families while they are deployed and when they return home—including our Atomic Veterans. My Administration is making good on this promise. I have signed laws that support veterans who developed cancer and other medical conditions stemming from our World War II nuclear program. That includes the PACT Act—one of the most significant laws in our Nation's history to help veterans who were exposed to toxins, radiation, and chemicals during their service access the care and benefits they and their families deserve.

This month, let us join together to remember the service of our Atomic Veterans. Let us recommit to honoring the sacrifices they made for our Nation's safety and security. And let us continue to build a future of peace and a world free from the threat of nuclear weapons.

NOW, THEREFORE, I, JOSEPH R. BIDEN JR., President of the United States of America, by virtue of the authority vested in me by the Constitution and the laws of the United States, do hereby proclaim July 16, 2023, as National Atomic Veterans Day. I call upon all Americans to observe this day with appropriate ceremonies and activities that honor our Nation's Atomic Veterans, whose brave service and sacrifice played an important role in the defense of our Nation.

IN WITNESS WHEREOF, I have hereunto set my hand this fourteenth day of July, in the year of our Lord two thousand twenty-three, and of the Independence of the United States of America the two hundred and forty-eighth.

[FR Doc. 2023-15417

Filed 7-18-23; 8:45 am]

Billing code 3395-F3-P